ENVIRONMENTAL PROTECTION AGENCY

[EPA-HQ-OECA-2013-0348; FRL-9979-77-OEI]

Information Collection Request Submitted to OMB for Review and Approval; Comment Request; NESHAP for Primary Aluminum Reduction Plants (Renewal)

AGENCY: Environmental Protection Agency (EPA).

ACTION: Notice.

SUMMARY: The Environmental Protection Agency has submitted an information collection request (ICR)—NESHAP for Primary Aluminum Reduction Plants (Renewal), EPA ICR No. 1767.08, OMB Control No. 2060-0360—to the Office of Management and Budget (OMB) for review and approval in accordance with the Paperwork Reduction Act. This is a proposed extension of the ICR, which is currently approved through June 30, 2018. Public comments were previously requested via the Federal Register on June 29, 2017, during a 60-day comment period. This notice allows for an additional 30 days for public comments. A fuller description of the ICR is given below, including its estimated burden and cost to the public. An Agency may neither conduct nor sponsor, and a person is not required to respond to a collection of information, unless it displays a currently valid OMB control number.

DATES: Additional comments may be submitted on or before July 30, 2018.

ADDRESSES: Submit your comments, referencing Docket ID Number EPA-HQ-OECA-2013-0348, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Primary Aluminum Reduction Plants (40 CFR part 63, subpart LL) were proposed on September 26, 1996, promulgated on October 7, 1997, and most-recently amended on October 15, 2015. The 2015 amendment includes: (1) Polycyclic organic matter (POM) emission limits for new, existing and reconstructed prebake potlines; (2) revised POM limits for new, existing and reconstructed Soderberg potlines; (3) carbonyl sulfide (COS) emission limits for new, existing and reconstructed potlines; (4) POM emission limits for existing pitch storage tanks; (5) particulate matter (PM) emission limits for new, existing and reconstructed potlines, paste production plants and anode bake furnaces; (6) mercury (Hg) limits for new, existing and reconstructed anode bake furnaces; (7) arsenic, nickel and polychlorinated biphenyl (PCB) limits for new, existing and reconstructed Soderberg potlines; (8) new work practice standards for anode bake furnaces, paste production plants and potlines; and (9) eliminates the exemptions for periods of startup, shutdown, and malfunctions (SSM). The amendment also reduces the testing frequency for total fluoride (TF) from prebake and Soderberg potlines and POM from Soderberg potlines from monthly to semiannually. These regulations apply to the following affected sources at a primary aluminum reduction plant are covered: Each new and existing pitch storage tank, potline, paste production plant and anode bake furnace that is located at a plant site that is a major source as defined at § 63.2 (except for anode bake furnaces that are not located on the same site as a primary aluminum reduction plant). New facilities include those that commenced construction or reconstruction after the date of proposal.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form numbers: None.

Respondents/affected entities: Primary aluminum reduction plants.

Respondent's obligation to respond: Mandatory (40 CFR part 63, subpart LL).

Estimated number of respondents: 11 (total).

Frequency of response: Initially and semiannually.

Total estimated burden: 71,900 hours (per year). Burden is defined at 5 CFR 1320.3(b).

Total estimated cost: $7,630,000 (per year), which includes $78,500 in either annualized capital/startup and/or operation & maintenance costs.

Changes in the estimates: There is an adjustment decrease in the total estimated burden as currently identified in the OMB Inventory of Approved Burdens. This decrease is primarily due to a program change. The 2015 amendment reduces the frequency of TF performance tests from monthly to semiannually. This ICR combines burden from the existing provisions with the burden associated with the 2015 amendment to the rule, resulting in a net decrease in burden. Additionally, there is an adjustment decrease because the total number of affected sources has decreased as compared to the most recently-approved ICR. There is an adjustment decrease in the total estimated capital and O&M costs as compared to the most recently approved ICR. This decrease occurred because there is a decrease in the total number of respondents subject to the rule.

Courtney Kerwin,
Director, Regulatory Support Division.

[FR Doc. 2018-13922 Filed 6-27-18; 8:45 am]

BILLING CODE 6560-50-P